ENVIRONMENTAL PROTECTION AGENCY

[EPA-R01-OW-2012-0201; FRL-9666-5]

EPA—New England Region I; Massachusetts Marine Sanitation Device Standard; Receipt of Petition

AGENCY: Environmental Protection Agency (EPA).

ACTION: Notice—Receipt of petition.

SUMMARY: Notice is hereby given that a petition has been received from the Commonwealth of Massachusetts requesting a determination by the Regional Administrator, U. S. Environmental Protection Agency, that adequate facilities for the safe and sanitary removal and treatment of sewage from all vessels are reasonably available for the waters of Nantucket and Vineyard Sounds and the Islands, collectively termed the Southern Cape Cod for the purpose of this notice.

DATES: Comments must be submitted by May 29, 2012.

ADDRESSES: Submit your comments, identified by Docket ID No. EPA-R01-OW-2012-0201, by one of the following methods: www.regulations.gov, Follow the on-line instructions for submitting comments.

• Email: rodney.ann@epa.gov.

• Fax: (617) 918-0538.

Mail and hand delivery: U.S. Environmental Protection Agency—New England Region, Five Post Office Square, Suite 100, OEP06-1, Boston, MA 02109-3912. Deliveries are only accepted during the Regional Office's normal hours of operation (8 a.m.-5 p.m., Monday through Friday, excluding legal holidays), and special arrangements should be made for deliveries of boxed information.

Instructions: Direct your comments to Docket ID No. EPA-R01-OW-2012-0201. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov, or email. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, e.g., CBI or other information whose disclosure is restricted by statute. Certain other material, such as copy-righted material, will be publicly available only in hard copy. Publicly available docket materials are available either electronically in www.regulations.gov or in hard copy at the U.S. Environmental Protection Agency—New England Region, Five Post Office Square, Suite 100, OEP06-01, Boston, MA 02109-3912. Such deliveries are only accepted during the Regional Office's normal hours of operation, and special arrangements should be made for deliveries of boxed information. The Regional Office is open from 8 a.m.-5 p.m., Monday through Friday, excluding legal holidays. The telephone number is (617) 918-1538.

FOR FURTHER INFORMATION CONTACT: Ann Rodney, U.S. Environmental Protection Agency—New England Region, Five Post Office Square, Suite 100, OEP06-01, Boston, MA 02109-3912. Telephone: (617) 918-1538, Fax number: (617) 918-0538; email address: rodney.ann@epa.gov.

SUPPLEMENTARY INFORMATION: Notice is hereby given that a petition has been received from the Commonwealth of Massachusetts requesting a determination by the Regional Administrator, U.S. Environmental Protection Agency, pursuant to Section 312(f)(3) of Public Law 92-500 as amended by Public Law 95-217 and Public Law 100-4, that adequate facilities for the safe and sanitary removal and treatment of sewage from all vessels are reasonably available for the Southern Cape Cod area.

The Southern Cape Cod No Discharge Area will encompass the coastal waters for the towns of Chilmark, West Tisbury, Tisbury, Oak Bluffs, Edgartown, Gosnold, Falmouth, Mashpee, Barnstable, Yarmouth, Dennis, Harwich, Chatham and Nantucket.

The proposed boundaries of the No Discharge Area for the Southern Cape Cod waters are as follows:

The western-most contiguous area of the NDA is bound by the Buzzards Bay NDA and the Federal/State boundary line:

Waterbody/general area | Latitude | Longitude
West of the Elizabeth Islands | 41°24′35.11″ N | 70°56′54.62″ W
West of the Elizabeth Islands | 41°22′30.32″ N | 70°59′51.57″ W
West of the Elizabeth Islands | 41°24′17.81″ N | 71°02′06.69″ W

The upper-eastern area of the NDA is bound by the Outer Cape NDA:

Waterbody/general area | Latitude | Longitude
South of Monomoy Island | 41°32′29.79″ N | 70°00′36.28″ W
South of Monomoy Island | 41°29′14.59″ N | 70°00′10.93″ W

The small triangle of Commonwealth waters at the mouth of Buzzards Bay will be bound by the following coordinates along the Federal/State boundary line:

Waterbody/general area | Latitude | Longitude
Mouth of Buzzards Bay | 41°24′50.40″ N | 71°02′48.61″ W
Mouth of Buzzards Bay | 41°25′25.66″ N | 71°03′31.78″ W
Mouth of Buzzards Bay | 41°25′18.57″ N | 71°04′18.47″ W

The two temporarily undesignated areas will be bound by the following coordinates:

Waterbody/general area | Latitude | Longitude
Area 1:
Vineyard Sound | 41°30′33.61″ N | 70°40′06.67″ W
Vineyard Sound | 41°30′49.20″ N | 70°39′19.65″ W
Vineyard Sound | 41°30′59.29″ N | 70°39′02.76″ W
Vineyard Sound | 41°30′03.08″ N | 70°33′54.78″ W
Vineyard Sound | 41°28′22.57″ N | 70°33′27.72″ W
Vineyard Sound | 41°28′44.74″ N | 70°35′18.74″ W
Vineyard Sound | 41°29′08.60″ N | 70°35′32.38″ W
Area 2:
Nantucket Sound | 41°34′27.90″ N | 70°16′48.99″ W
Nantucket Sound | 41°34′27.90″ N | 70°15′00.99″ W
Nantucket Sound | 41°33′20.36″ N | 70°14′39.33″ W
Nantucket Sound | 41°31′41.73″ N | 70°12′27.06″ W
Nantucket Sound | 41°31′07.88″ N | 70°15′32.25″ W

The boundaries were chosen to maximize the area designated, give larger vessels a window in which to comply with this proposed regulation, and generally represent all navigational waters.

There are marinas, yacht clubs and public landings/piers in the proposed area with a combination of mooring fields and dock space for the recreational and commercial vessels. Massachusetts has certified that there are 29 pumpout facilities within the proposed area available to the boating public. A list of the facilities, locations, contact information, hours of operation, and water depth is provided at the end of this petition.

Massachusetts has provided documentation indicating that the total vessel population is estimated to be 15,283 in the proposed area. It is estimated that 5,075 of the total vessel population may have a Marine Sanitation Device (MSD) of some type.

The various beaches, marshes, and harbors and their recreational opportunities attract thousands of visitors to Cape Cod and the Islands every year. Within the proposed NDA area, there are 143 bathing beaches covering over 26 miles of coastline.

The area is known for the strong prevailing southwest winds which support sailing, windsurfing, and kite boarding. Numerous wildlife tours, recreational fishing charters operate within the waters of this proposed NDA, and it is an important and popular destination for boaters due to its natural environmental diversity.

Six species of shellfish are harvested in the area, including soft-shell clams, surf clams, blue mussels, oysters, ocean quahogs, and the state's only commercial bay scallop fishery.

Southern South Cape Cod and Islands NDA encompasses approximately 12,500 acres of shellfish habitat, and supports an estimated 600 commercial shellfishermen. Recreational shellfishing alone was estimated to be worth over $7 million in 2002 dollars to Cape Cod.

Pumpout Facilities Within Proposed No Discharge Area
Name | Location | Contact information | Hours of operation | Depth (ft)
Menemsha Harbor | Chilmark | 508-645-2846, VHF 9, 16 | 8 a.m.-4 p.m. | 4
Vineyard Haven Harbor/Tashmoo Pond | Tisbury | 508-696-4249, VHF 9 | 9 a.m.-4 p.m. | NA
Tisbury Wharf Co | 144 Beach Road, P.O. Box 1317, Tisbury | 508-693-9300, VHF 9 | 9 a.m.-4 p.m. | 4
Oak Bluffs Harbor | Oak Bluffs | 508-693-4355, VHF 71 | 9 a.m.-4 p.m. | NA
Oak Bluffs Harbor Marina | Box 1327, Oak Bluffs | 508-693-4355, VHF 71 | 9 a.m.-4 p.m. | 6
Edgartown Marina | 1 Morse Street Edgartown | 508-627-4746, VHF 9, 74 | 8 a.m.-4 p.m. | 6
Edgartown Harbor | 1 Morse Street Edgartown | 508-627-4746, VHF 9, 74 | 8 a.m.-4 p.m. | NA
Falmouth Marine, Inner Harbor | 278 Scranton Avenue, Falmouth | 508-548-4600, VHF 9, 16 | 9 a.m.-5 p.m. | 6
McDougall's Inner Harbor | 145 Falmouth Heights Road, Falmouth | 508-548-3146, VHF 9, 16 | 9 a.m.-5 p.m. | NA
Falmouth Town Dock | Falmouth | 508-457-2550, VHF 9, 16 | 9 a.m.-5 p.m. | 6
Green Pond Marina | 70 Green Harbor Road, East Falmouth | 508-457-9283, VHF 9, 16 | 9 a.m.-4 p.m. | 3
Bosun's Marine | 1209 East Falmouth Highway, Route 28, Falmouth | 508-548-2216, VHF 9, 16 | 9 a.m.-4 p.m. | 3
Waquoit Bay/Inner Harbor | Falmouth | 508-457-2550, VHF 9, 16 | 9 a.m.-5 p.m. | NA
Popponessett Bay | Mashpee | 508-539-1450, VHF 9, 16 | 9 a.m.-4 p.m. | NA
Oyster Harbor Marine | 122 Bridge Street, Osterville | 508-428-2017, VHF 9, 79 | 9 a.m.-4 p.m. | 6
Crosby Yacht Yard | 72 Crosby Circle, Osterville, MA | 508-428-6900, VHF 9 | 9 a.m.-5 p.m. | 6
Centerville Harbor/3 Bays | Barnstable | 508-790-6273, VHF 9, 16 | 9 a.m.-4 p.m. | NA
Bismore Park (Hyannis) | 180 Ocean Street, Hyannis | 508-790-6273, VHF 9, 16 | 9 a.m.-5 p.m. | 6
Hyannis Marine | 1 Willow Street, Hyannis | 508-790-4000, VHF 9, 72 | 9 a.m.-5 p.m. | 6
Lewis Bay/Hyannis Harbor/Bass River | Yarmouth | 508-760-4800, VHF 66 | 9 a.m.-4 p.m. | NA
Bass River | Packet Landing, Water Street, Yarmouth | 508-760-4800, VHF 66 | 9 a.m.-4 p.m. | 3
Bass River Marina | 140 Main Street, West Dennis | 508-394-8341, VHF 71 | 8 a.m.- 5 p.m. | 3
Saquatucket, Allen & Wychmere Harbors (Within existing NDA) | Harwich | 508-430-7532, VHF 68 | 9:30 a.m.-3:30 p.m. | NA
Saquatucket, fuel dock (Within existing NDA) | Harwich | 508-430-7532, VHF 68 | 9 a.m.-5 p.m. | 5
Stage Harbor (Within existing NDA) | Chatham | 508-945-5185, VHF 16, 66 | 7 a.m.-6 p.m. | 5.5
Madaket Marine (Within Existing NDA) | Nantucket | 508-228-1163, VHF 9, 16 | 9 a.m.-5 p.m. | 3
Nantucket Boat Basin (Within Existing NDA) | Nantucket | 508-325-1350, VHF 9, 11 | 9 a.m.-5 p.m. | 6
Nantucket Harbor (Within Existing NDA) | Nantucket | 508-228-7261, VHF 9, 14 | 9 a.m.-4 p.m. | 6
Nantucket Harbor (Within Existing NDA) | Nantucket | 508-228-7261, VHF 9, 14 | 9 a.m.-4 p.m. | NA

Dated: April 18, 2012.
H. Curtis Spalding,
Regional Administrator, New England Region.

[FR Doc. 2012-10206 Filed 4-26-12; 8:45 am]

BILLING CODE 6560-50-P